DEPARTMENT OF THE INTERIOR

Minerals Management Service

[Docket No. MMS-2008-MRM-0027]

Notice of Establishment of the Indian Oil Valuation Negotiated Rulemaking Committee

AGENCY: Minerals Management Service, Interior.

ACTION: Establishment of Advisory Committee.

SUMMARY: As required by section 9 (a) (2) of the Federal Advisory Committee Act (FACA) (5 U.S.C. Appendix 2), the Department of the Interior (Department) is giving notice of the establishment of the Indian Oil Valuation Negotiated Rulemaking Committee (Committee) to develop specific recommendations regarding Indian oil valuation. The Department has determined that the establishment of this Committee is in the public interest and will assist the Minerals Management Service (MMS) in performing its duties under the Federal Oil and Gas Royalty Management Act of 1982 (FOGRMA) (30 U.S.C. 1701 et seq.). Copies of the Committee's charter will be filed with the appropriate committees of Congress and the Library of Congress in accordance with section 9 (c) of FACA.

ADDRESSES: You may submit comments by the following methods:

• Electronically go to http://www.regulations.gov. In the “Comment or Submission” column, enter “MMS-2008-MRM-0027” to view supporting and related materials for this notice. Click on “Send a comment or submission” link to submit public comments. Information on using Regulations.gov, including instructions for accessing documents, submitting comments, and viewing the docket after the close of the comment period, is available through the site's “User Tips” link. All comments submitted will be posted to the docket.

• Mail comments to Hyla Hurst, Regulatory Specialist, Minerals Management Service, Minerals Revenue Management, P.O. Box 25165, MS 302B2, Denver, Colorado 80225.

• Hand-carry comments or use an overnight courier service. Our courier address is Building 85, Room A-614, Denver Federal Center, West 6th Ave. and Kipling St., Denver, Colorado 80225.

FOR FURTHER INFORMATION CONTACT: Mr. Donald T. Sant, Senior Policy Advisor, Minerals Management Service, Minerals Revenue Management, P.O. Box 25165, MS 300B2, Denver, Colorado 80225-0165, telephone number (303) 231-3899, fax number (303) 231-3409.

SUPPLEMENTARY INFORMATION:

I. Background

On April 28, 2008, the Department published a notice of intent to establish an Indian Oil Valuation Negotiated Rulemaking Committee (73 FR 22970). In that notice, the Department requested interested parties to nominate representatives for membership on the Committee. The Department received 1 comment opposing the establishment of a negotiated rulemaking committee and 10 responses nominating individuals to serve on the Committee. The Department believes that using a negotiated rulemaking committee to make specific recommendations regarding valuation of oil from Indian leases would help the agency in developing a rulemaking. Therefore, the Department is establishing the Indian Oil Valuation Negotiated Rulemaking Committee.

II. Statutory Provisions

The Negotiated Rulemaking Act of 1996 (NRA) (5 U.S.C. 561 et seq. ); the Federal Advisory Committee Act (5 U.S.C. Appendix 2, section 1 et seq. ); the Federal Oil and Gas Royalty Management Act of 1982 (FOGRMA) (30 U.S.C. 1701 et seq. ); the Indian Mineral Development Act of 1982 (25 U.S.C. 2101-2108; and 25 U.S.C. 2 and 9); 30 CFR part 206; 25 CFR part 225; and Indian oil and gas lease and agreement terms.

III. The Committee and Its Process

In a negotiated rulemaking, a proposed rule is developed by a committee composed of representatives of government and the interests that will be significantly affected by the rule. Decisions are made by “consensus.”

“[C]onsensus” means unanimous concurrence among the interests represented on a negotiated rulemaking committee established under this subchapter, unless such committee (A) agrees to define such term to mean a general but not unanimous concurrence; or (B) agrees upon another specified definition.

5 U.S.C. 562(2) (A) and (B).

The negotiated rulemaking process is initiated by the Agency's identification of interests potentially affected by the rulemaking under consideration. Those interests were identified by the comments received regarding the Federal Register notice published on April 28, 2008.

IV. Membership of the Committee

The MMS believes that the interests significantly affected by this rule will be represented by the representatives listed below:

A representative of the Shoshone and Arapaho Tribes of the Wind River Reservation;

A representative of the Ute Indian Tribe;

A representative of the allottees at Fort Berthold, North Dakota;

A representative of the allottees of Oklahoma Indian Land/Mineral Owners of Associated Nations;

A representative of the Blackfeet Nation;

A representative of the Council of Petroleum Accountants Societies (COPAS) Revenue Committee;

A representative of the Independent Petroleum Association of Mountain States;

A representative of Peak Energy Resources;

A representative of Resolute Natural Resources;

A representative of Chesapeake Energy;

Two representatives of the Minerals Management Service; and

A representative of the Assistant Secretary for Indian Affairs.

If anyone believes their interests will not be adequately represented by these organizations, they must demonstrate and document that assertion through an application submitted no later than 10 calendar days following publication of this notice. You may fax your documentation to (303) 231-3409.

The first meeting date will be published in a Federal Register notice. Future meetings will be determined at this first meeting and notice of the dates published in the Federal Register.

Certification

I hereby certify that the Indian Oil Valuation Negotiated Rulemaking Committee is in the public interest.

Dated: December 10, 2008.
Foster L. Wade,
Deputy Assistant Secretary for Land and Minerals Management.

[FR Doc. E8-30139 Filed 12-18-08; 8:45 am]

BILLING CODE 4310-MR-P